DEPARTMENT OF ENERGY

Federal Energy Regulatory Commission

Combined Notice of Filings #1

Take notice that the Commission received the following electric corporate filings:

Docket Numbers: EC11-108-000.

Applicants: ITC Great Plains, LLC.

Description: Section 203 Application for approval of acquisition of substations of ITC Great Plains, LLC.

Filed Date: 08/23/2011.

Accession Number: 20110823-5114.

Comment Date: 5 p.m. Eastern Time on Tuesday, September 13, 2011.

Take notice that the Commission received the following electric rate filings:

Docket Numbers: ER10-2972-001.

Applicants: Midwest Independent Transmission System Operator, Inc.

Description: Midwest Independent Transmission System Operator, Inc. submits tariff filing per 35: ATC-LSP GIA—Settlement Filing to be effective 10/23/2011.

Filed Date: 08/23/2011.

Accession Number: 20110823-5068.

Comment Date: 5 p.m. Eastern Time on Tuesday, September 13, 2011.

Docket Numbers: ER11-2794-003.

Applicants: Midwest Independent Transmission System Operator, Inc.

Description: Midwest Independent Transmission System Operator, Inc. submits tariff filing per 35: 08-23-11 Compliance with Errata Notice to be effective 4/1/2011.

Filed Date: 08/23/2011.

Accession Number: 20110823-5072.

Comment Date: 5 p.m. Eastern Time on Thursday, August 25, 2011.

Docket Numbers: ER11-4352-001.

Applicants: Arizona Public Service Company.

Description: Arizona Public Service Company submits tariff filing per 35.17(b): Amendment to metadata for APS Service Agreement No. 312 to be effective 10/21/2011.

Filed Date: 08/23/2011.

Accession Number: 20110823-5045.

Comment Date: 5 p.m. Eastern Time on Tuesday, September 13, 2011.

Docket Numbers: ER11-4354-000.

Applicants: Arizona Public Service Company.

Description: Arizona Public Service Company submits tariff filing per 35.15: Cancellation of APS Service Agreement No. 310 to be effective 10/21/2011.

Filed Date: 08/23/2011.

Accession Number: 20110823-5046.

Comment Date: 5 p.m. Eastern Time on Tuesday, September 13, 2011.

Docket Numbers: ER11-4355-000.

Applicants: TPW Petersburg, LLC.

Description: TPW Petersburg, LLC submits tariff filing per 35.12: TPW Petersburg, LLC Rate Schedule FERC No. 1 to be effective 9/30/2011.

Filed Date: 08/23/2011.

Accession Number: 20110823-5063.

Comment Date: 5 p.m. Eastern Time on Tuesday, September 13, 2011.

Docket Numbers: ER11-4356-000.

Applicants: PJM Interconnection, L.L.C.

Description: PJM Interconnection, L.L.C. submits tariff filing per 35.15: Notice of Cancellation of Service Agreement No. 2822 in Docket No. ER11-3238-000 to be effective 7/21/2011.

Filed Date: 08/23/2011.

Accession Number: 20110823-5070.

Comment Date: 5 p.m. Eastern Time on Tuesday, September 13, 2011.

Docket Numbers: ER11-4357-000.

Applicants: Marathon Power LLC.

Description: Marathon Power LLC submits tariff filing per 35.12: Marathon Power LLC Market-Based Rate Tariff to be effective 8/23/2011.

Filed Date: 08/23/2011.

Accession Number: 20110823-5075.

Comment Date: 5 p.m. Eastern Time on Tuesday, September 13, 2011.

Docket Numbers: ER11-4359-000.

Applicants: Florida Power Corporation.

Description: Notice of Cancellation of Rate Schedule No. 127 of Florida Power Corporation.

Filed Date: 08/23/2011.

Accession Number: 20110823-5076.

Comment Date: 5 p.m. Eastern Time on Tuesday, September 13, 2011.

Docket Numbers: ER11-4360-000.

Applicants: Florida Power Corporation.

Description: Notice of Cancellation of Rate Schedule No. 190 of Florida Power Corporation.

Filed Date: 08/23/2011.

Accession Number: 20110823-5077.

Comment Date: 5 p.m. Eastern Time on Tuesday, September 13, 2011.

Docket Numbers: ER11-4361-000.

Applicants: Florida Power Corporation.

Description: Notice of Cancellation of Rate Schedule No. 191 of Florida Power Corporation.

Filed Date: 08/23/2011.

Accession Number: 20110823-5078.

Comment Date: 5 p.m. Eastern Time on Tuesday, September 13, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2011.
Nathaniel J. Davis, Sr.,
Deputy Secretary.

[FR Doc. 2011-22374 Filed 8-31-11; 8:45 am]

BILLING CODE 6717-01-P